DEPARTMENT OF JUSTICE

Drug Enforcement Administration

Manufacturer of Controlled Substances; Notice of Application; Cayman Chemical Company

Pursuant to 21 CFR 1301.33(a), this is notice that on June 27, 2013, Cayman Chemical Company, 1180 East Ellsworth Road, Ann Arbor, Michigan 48108, made application by renewal to the Drug Enforcement Administration (DEA) to be registered as a bulk manufacturer of the following basic classes of controlled substances:

Drug | Schedule
Cathinone (1235) | I
Methcathinone (1237) | I
4-Methyl-N-methylcathinone (1248) | I
N-Ethylamphetamine (1475) | I
N,N-Dimethylamphetamine (1480) | I
Aminorex (1585) | I
4-Methylaminorex (cis isomer) (1590) | I
Gamma Hydroxybutyric Acid (2010) | I
JWH-250 (6250) | I
SR-18 also known as RCS-8 (7008) | I
XLR11 (7011) | I
JWH-019 (7019) | I
AKB48 (7048) | I
JWH-081 (7081) | I
SR-19 also known as RCS-4 (7104) | I
1-Pentyl-3-(1-naphthoyl)indole (7118) | I
JWH-122 (7122) | I
UR-144 (7144) | I
1-Butyl-3-(1-naphthoyl)indole (7173) | I
1-[2-(4-Morpholinyl)ethyl]-3- (1-naphthoyl) indole (7200) | I
AM-2201 (7201) | I
JWH-203 (7203) | I
Alpha-ethyltryptamine (7249) | I
5-(1,1-Dimethylheptyl)-2-[(1R,3S)- 3-hydroxycyclohexyl]-phenol (7297) | I
5-(1,1-Dimethyloctyl)-2-[(1R,3S)-3-hydroxycyclohexyl]-phenol (7298) | I
Lysergic acid diethylamide (7315) | I
2,5-Dimethoxy-4-(n)-propylthiophenethylamine (7348) | I
Marihuana (7360) | I
Tetrahydrocannabinols (7370) | I
Mescaline (7381) | I
2C-T-2 (7385) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
JWH-398 (7398) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Bufotenine (7433) | I
Diethyltryptamine (7434) | I
Dimethyltryptamine (7435) | I
Psilocybin (7437) | I
Psilocyn (7438) | I
5-Methoxy-N,N-diisopropyltryptamine (7439) | I
N-Ethyl-1-phenylcyclohexylamine (7455) | I
N-Benzylpiperazine (7493) | I
2C-D (7508) | I
2C-E (7509) | I
2C-H (7517) | I
2C-I (7518) | I
2C-C (7519) | I
2C-N (7521) | I
2C-P (7524) | I
2C-T-4 (7532) | I
MDPV (7535) | I
Methylone (7540) | I
AM-694 (7694) | I
Desmorphine (9055) | I
Dihydromorphine (9145) | I
Heroin (9200) | I
Morphine-N-oxide (9307) | I
Normorphine (9313) | I
Tilidine (9750) | I
Amphetamine (1100) | II
Methamphetamine (1105) | II
Lisdexamfetamine (1205) | II
Pentobarbital (2270) | II
Phencyclidine (7471) | II
Phenylacetone (8501) | II
Codeine (9050) | II
Dihydrocodeine (9120) | II
Oxycodone (9143) | II
Hydromorphone (9150) | II
Hydrocodone (9193) | II
Levomethorphan (9210) | II
Meperidine (9230) | II
Meperidine intermediate-B (9233) | II
Methadone (9250) | II
Dextropropoxyphene, bulk (non-dosage forms) (9273) | II
Morphine (9300) | II
Thebaine (9333) | II
Oxymorphone (9652) | II
Sufentanil (9740) | II
Fentanyl (9801) | II

The company plans to manufacture reference standards for distribution to their research and forensics customers.

In reference to drug code 7360 (Marihuana), the company plans to bulk manufacture cannabidiol as a synthetic intermediate. This controlled substance will be further synthesized to bulk manufacture a synthetic tetrahydrocannabinol (7370). No other activity for this drug code is authorized for this registration.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODW), 8701 Morrissette Drive, Springfield, Virginia 22152; and must be filed no later than March 11, 2014.

Dated: December 31, 2013.
Joseph T. Rannazzisi,
Deputy Assistant Administrator, Office of Diversion Control, Drug Enforcement Administration.

[FR Doc. 2014-00200 Filed 1-9-14; 8:45 am]

BILLING CODE 4410-09-P